DEPARTMENT OF THE INTERIOR

Bureau of Land Management

[LLID9310000.L10200000.EE0000.LXSSD0010000]

Notice of Intent To Prepare an Environmental Impact Statement To Address Grazing Permit Renewals in the Jump Creek, Succor Creek, and Cow Creek Watersheds in the Owyhee Field Office of the Boise District, ID

AGENCY: Bureau of Land Management, Interior.

ACTION: Notice of Intent.

SUMMARY: In compliance with the National Environmental Policy Act of 1969, as amended, and the Federal Land Policy and Management Act of 1976 (NEPA), as amended, the Bureau of Land Management (BLM) Owyhee Field Office in Marsing, Idaho intends to prepare an environmental impact statement (EIS), and by this notice, is announcing the beginning of the scoping process to solicit public comments and identify issues.

DATES: This notice initiates the public scoping process for the EIS. We request that comments should be submitted within 30 days of the date of publication of this notice. The date(s) and location(s) of any scoping meeting(s) will be announced at least 15 days in advance through local media and the BLM Web site, http://www.blm.gov/id. In order to be considered in the draft EIS, all comments must be received prior to the close of the scoping period or 15 days after the last public meeting, whichever is later.

ADDRESSES: You may submit comments and issues related to the Jump Creek, Succor Creek, and Cow Creek Watersheds Grazing Permit Renewal EIS by any of the following methods:

• Web site: http://www.blm.gov/id/st/en/fo/owyhee/owyhee_grazing_group.html.

• Email: NPR_EIS@blm.gov.

• Fax: (208) 373-3805.

• Mail: Bureau of Land Management, 1387 S. Vinnell Way, Boise ID 83709, Attention: Jake Vialpando, Project Manager.

Documents pertinent to this proposal may be examined at the Owyhee Field Office; the BLM Boise District Office, 3948 Development Ave., Boise ID 83705; and the BLM Idaho State Office, 1387 S. Vinnell Way, Boise ID 83709.

FOR FURTHER INFORMATION CONTACT: and/or to have your name added to our mailing list, contact Jake Vialpando, Project Manager, telephone (208) 373-3814, email jvialpando@blm.gov. Persons who use a telecommunications device for the deaf (TDD) may call the Federal Information Relay Service (FIRS) at 1 (800) 877-8339 to contact the above individual during normal business hours. The FIRS is available 24 hours a day, 7 days a week, to leave a message or question with the above individual. You will receive a reply during normal business hours.

SUPPLEMENTARY INFORMATION: This document provides notice that the BLM Owyhee Field Office in Marsing, Idaho, intends to prepare an EIS to address grazing permit renewal requests in the Jump Creek, Succor Creek, and Cow Creek areas, and announces the beginning of the scoping process. The area covered by the permit renewal requests is located in Owyhee County, Idaho, and encompasses approximately 120,000 acres of public land. The purpose of the public scoping process is to determine relevant issues that will influence the scope of the EIS, including the alternatives. The agency seeks public input to identify issues related to grazing permit renewals that have been proposed for those areas. Preliminary issues have been identified by BLM personnel; Federal, State, and local agencies; and other stakeholders. Some key issues that have already been identified involve the effects of livestock grazing on Greater sage-grouse and its habitat, as well as the potential for disease transmission between domestic and bighorn sheep. In addition to livestock grazing, a variety of other multiple uses exist within this area, including: year-long recreation activities, particularly hiking, boating, fishing, hunting, and off-road vehicle use; wild horse management; potential wind energy development and electrical transmission line development.

The Owyhee Field Office will consult with the Shoshone-Paiute Tribes and other parties, as applicable, on this action during regular consultation proceedings and briefings. Federal, State, and local agencies, along with other stakeholders that may be interested or affected by the BLM's decision on this project are invited to participate in the scoping process and, if eligible, may request or be requested by the BLM to participate as a cooperating agency. The BLM will also brief county commissioners, Congressional delegations and grazing permittees during the EIS process.

You may submit comments on issues and planning criteria in writing to the BLM using one of the methods listed in the ADDRESSES section above. To be most helpful, please submit comments by the close of the 30-day scoping period or within 15 days after the last public meeting, whichever is later. Before including your address, phone number, email address, or other personal identifying information in your comment, you should be aware that your entire comment—including your personal identifying information—may be made publicly available at any time. While you can ask in your comment to withhold your personal identifying information from public review, we cannot guarantee that we will be able to do so.

The public is also encouraged to help identify any other management questions and concerns that should be addressed in the EIS.

The BLM will use an interdisciplinary approach to develop the EIS in order to consider the variety of resource issues and concerns identified. Specialists with expertise in the following disciplines will be involved in the NEPA process: Range management, wildlife biology, archaeology, riparian, soils, and outdoor recreation.

Authority: 40 CFR 1501.7, 43 CFR 1610.2.

Loretta Chandler,
Field Manager, BLM Owyhee Field Office.

[FR Doc. 2012-125 Filed 1-6-12; 8:45 am]

BILLING CODE 4310-GG-P